DEPARTMENT OF ENERGY

Notice of Availability; Draft Environmental Impact Statement for the FutureGen 2.0 Project

AGENCY: U. S. Department of Energy.

ACTION: Notice of availability and public hearing.

SUMMARY: The U.S. Department of Energy (DOE) announces the availability of the Draft Environmental Impact Statement for the FutureGen 2.0 Project (DOE/EIS-0460D) for public review and comment, as well as the date, location, and time for a public hearing. The draft environmental impact statement (EIS) analyzes the potential impacts associated with the FutureGen 2.0 Project (FutureGen 2.0), which would be designed, constructed, operated, and partially funded by the FutureGen Industrial Alliance, Inc. (Alliance). In addition to Alliance funding, FutureGen 2.0 may receive approximately $1 billion in federal financial assistance under the American Recovery and Reinvestment Act (ARRA).

DOE prepared this draft EIS in accordance with the National Environmental Policy Act of 1969 (NEPA) (42 U.S.C. 4321 et seq.), the Council on Environmental Quality regulations that implement the procedural provisions of NEPA (40 CFR parts 1500-1508), DOE's procedures implementing NEPA (10 CFR part 1021), and DOE's procedures for compliance with floodplain and wetland review requirements (10 CFR part 1022).

DATES: DOE invites the public to comment on the draft EIS during the public comment period, which ends June 17, 2013. DOE will consider all comments postmarked or received during the public comment period when preparing the final EIS and will consider late comments to the extent practicable.

DOE will hold a public hearing on May 21, 2013, at Jacksonville High School, 1211 N. Diamond Street, Jacksonville, Illinois. An informational session will be held from 5:00 p.m. to 6:00 p.m., preceding the formal presentations and comment period from 6:00 p.m. to approximately 8:00 p.m. See the PUBLIC HEARING section for details on the hearing process.

ADDRESSES: Requests for information about this draft EIS or for a paper copy should be directed to: Mr. Cliff Whyte, M/S: I07, National Energy Technology Laboratory, 3610 Collins Ferry Road, P.O. Box 880, Morgantown, WV 26507-0880.

Additional information about the draft EIS may also be requested by electronic mail at cliff.whyte@netl.doe.gov, by telephone at (304) 285-2098, or by toll-free telephone at 1-800-432-8330, extension 2098. The draft EIS will be available at http://energy.gov/nepa. Copies of the draft EIS are also available for review at the locations listed in the AVAILABILITY OF THE DRAFT EIS section of this notice.

Written comments on the draft EIS can be mailed or sent electronically to Mr. Whyte at the addresses noted above. Written comments may also be submitted by fax to (304) 285-4403. Oral comments on the draft EIS will be accepted during the public hearing scheduled for the date and location provided in the DATES section of this notice.

FOR FURTHER INFORMATION CONTACT: For further information on the proposed project or the draft EIS, please contact: Mr. Cliff Whyte (see ADDRESSES). For general information regarding DOE's NEPA process, please contact: Ms. Carol M. Borgstrom, Director, Office of NEPA Policy and Compliance (GC-54), U.S. Department of Energy, 1000 Independence Avenue SW., Washington, DC 20585; Telephone: (202) 586-4600; Fax: (202) 586-7031. You may also call Ms. Borgstrom at (800) 472-2756.

SUPPLEMENTARY INFORMATION: DOE proposes to provide financial assistance (approximately $1 billion), through two cooperative agreements, to the Alliance for its proposed FutureGen 2.0 Project. FutureGen 2.0 is a public-private partnership formed for the purpose of developing and sharing the cost of the world's first commercial-scale oxy-combustion electricity generation plant integrated with carbon dioxide (CO2) capture and storage. Babcock & Wilcox Power Generation Group, Inc. and Air Liquide Process and Construction, Inc., among others, would participate in the project by supplying technology, major components, and construction services.

The project would use oxy-combustion technology to generate electric power and would capture CO2 for permanent storage underground. The plant would generate 168 megawatts (MW) (gross) of electricity. The Alliance would design and construct the plant to capture at least 90 percent of the CO2 generated (up to 98 percent could be captured). Captured CO2 would be transported through a 30-mile pipeline to a facility where it would be injected into the Mount Simon formation for permanent storage. This saline rock formation is approximately 4,000-4,500 feet below ground. The project would be designed to capture, transport, and inject approximately 1.1 million metric tons of CO2 annually, or a total of approximately 33 million metric tons over 30 years of operation. The Alliance would also construct and operate a visitor and research center and training facilities related to carbon capture and storage in the vicinity of Jacksonville, Illinois. The DOE-funded demonstration period would last for 56 months, from the start of operations (July 2017) through February 2022, but the plant is expected to continue commercial operations after this date.

The oxy-combustion plant would be built on a 263-acre existing power plant site in Morgan County, Illinois, approximately one mile south of the Village of Meredosia. Ameren Energy Resources (Ameren) has agreed to sell to the Alliance the assets at the Meredosia Energy Center that are necessary for the FutureGen 2.0 Project. These assets include Unit 4, which was constructed in 1975. The Unit 4 steam turbine, material and fuel handling facilities, process water sources, cooling systems, high-voltage interconnection lines, and certain other facilities would be used for the new plant. Ameren would continue to own the three other electricity generation units at the Meredosia Energy Center. Operation of these units has been suspended since 2011.

The CO2 storage site would be located 30 miles east of the plant site, on the eastern side of Morgan County. A new 12-inch diameter pipeline would be sited and constructed using an 80-foot construction right-of-way and a 50-foot permanent right-of-way. The Alliance has identified two possible routes for the pipeline and has proposed to use the route that would minimize impacts to landowners and the environment. The Alliance has not identified a final location for the proposed injection wells, but has identified an approximately 5,300-acre site in which the wells would be located and under which the CO2 would be permanently stored. Up to 25 acres of land would be used for the injection facilities, associated infrastructure and buildings, and access roads.

The draft EIS evaluates the potential impacts of the proposed project, connected actions, and reasonable alternatives. Because the proposed project may affect wetlands, the draft EIS includes an assessment of impacts to wetlands in accordance with DOE's regulations under Compliance with Floodplains and Wetlands Environmental Review Requirements (10 CFR part 1022).

DOE analyzed two alternatives in the draft EIS: the proposed action and the no action alternative. Under the proposed action, DOE would provide approximately $1 billion in cost-shared ARRA funding to the proposed project.

Under the no action alternative, DOE would not provide continued funding. Without DOE funding, it is unlikely that the Alliance, or the industry in general, would undertake the utility-scale integration of CO2 capture and geologic storage with a coal-fueled power plant using oxy-combustion. Therefore, the no action alternative also represents a “no-build” alternative. Without DOE's investment in a utility-scale facility, the development of oxy-combustion repowered plants integrated with CO2 capture and geologic storage would occur more slowly or not at all.

The draft EIS considers the environmental consequences that may result from the proposed project and describes additional mitigation that might be used to reduce various impacts.

Availability of the Draft EIS: Copies of the draft EIS have been distributed to members of Congress; Native American tribal governments; federal, state, and local officials; and agencies, organizations, and individuals who may be interested or affected. The draft EIS will be available on the Internet at: http://energy.gov/nepa/nepa-documents. Copies of the draft EIS are available for public review at the following locations: M-C River Public Library District, 304 Main Street, Meredosia, Illinois; Jacksonville Public Library, 201 West College Avenue, Jacksonville, Illinois; Taylorville Public Library, 121 West Vine Street, Taylorville, Illinois; Arcola Public Library, 407 East Main Street, Arcola, Illinois; and Tuscola Public Library, 112 Sale Street, Tuscola, Illinois. Additional copies also can be requested (see ADDRESSES).

Public Hearing: DOE will conduct a public hearing on May 21, 2013 at the Jacksonville High School, Jacksonville, Illinois to obtain comments on the draft EIS. Requests to speak at the public hearing can be made by calling or writing to Mr. Whyte (see ADDRESSES). Requests to speak not submitted prior to the hearing will be accepted in the order in which they are received during the hearing. Speakers are encouraged to provide a written version of their oral comments or supplementary materials for the record. Each speaker will be allowed approximately five minutes to present comments. Those speakers who want more than five minutes should indicate the length of time desired in their request. Depending on the number of speakers, DOE may need to limit all speakers to five minutes initially and provide additional opportunities as time permits. Comments will be recorded by a court reporter and will become part of the public record. Oral and written comments will be given equal consideration.

The public hearing will begin at 5:00 p.m. with an informational session. Formal presentations and a formal comment session will begin at approximately 6:00 p.m. DOE will begin the hearing's formal session with overviews of its clean coal program, proposed FutureGen 2.0 Project, and the NEPA process, followed by oral statements by pre-registered speakers. Speakers may be asked questions to help ensure that DOE fully understands their comments. A presiding officer will establish the order of speakers and provide any additional procedures necessary to conduct the hearing.

The public hearing will be accessible to people with disabilities. In addition, any individual needing specific assistance, such as a sign language interpreter or a translator, should contact Mr. Whyte (See ADDRESSES) at least 48 hours in advance of the hearing so that arrangements can be made.

Dated: May 1, 2013.
Mark J. Matarrese,
Director, Office of Environment, Security, Safety and Health, Office of Fossil Energy.

[FR Doc. 2013-10662 Filed 5-1-13; 4:15 pm]

BILLING CODE 6450-01-P